DEPARTMENT OF TRANSPORTATION

Federal Aviation Administration

14 CFR Part 71

[Docket No. FAA-2025-0277; Airspace Docket No. 24-AGL-29]

RIN 2120-AA66

Amendment of Jet Route J-146 and Establishment of United States RNAV Route Q-186 in the Vicinity of Chardon, OH

AGENCY: Federal Aviation Administration (FAA), DOT.

ACTION: Notice of proposed rulemaking (NPRM).

SUMMARY: This action proposes to amend Jet Route J-146 and establish United States Area Navigation (RNAV) Route Q-186. The FAA is proposing this action due to the planned decommissioning of the VOR portion of the Chardon, OH (CXR), VOR/Distance Measuring Equipment (VOR/DME) navigational aid (NAVAID). The Chardon VOR is being decommissioned in support of the FAA's VOR Minimum Operational Network (MON) program.

DATES: Comments must be received on or before April 7, 2025.

ADDRESSES: Send comments identified by FAA Docket No. FAA-2025-0277 and Airspace Docket No. 24-AGL-29 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

Jet Routes are published in paragraph 2004 and United States Area Navigation Routes (Q-routes) are published in paragraph 2006 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The FAA is planning to decommission the VOR portion of the Chardon, OH, VOR/DME in January 2026. The Chardon VOR was one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Chardon VOR/DME is planned for decommissioning, the co-located Distance Measuring Equipment (DME) portion of the NAVAID is being retained to provide service supporting current and future NextGen PBN flight procedure requirements.

The Air Traffic Service (ATS) route affected by the Chardon VOR decommissioning is Jet Route J-146. With the planned decommissioning of the Chardon VOR, the remaining ground-based NAVAID coverage in the area is insufficient to enable the continuity of J-146. As such, proposed modifications to J-146 would result in a significant gap between the Gipper, MI (GIJ), VOR/Tactical Air Navigation (VORTAC) and the Keating, PA (ETG), VORTAC.

To mitigate the loss of the J-146 route segment, instrument flight rules (IFR) pilots could use Jet Routes J-60, J-190, J-554, and J-584 to navigate around the affected area. IFR pilots with RNAV-equipped aircraft could navigate using RNAV Route Q-186, proposed in this action, or point-to-point using the existing Fixes that would remain in place to support continued operations through the affected area. Additionally, IFR pilots could request and receive air traffic control (ATC) radar vectors to fly through or around the affected area.

The proposed establishment of United States RNAV Route Q-186 would mitigate the proposed route segment loss to J-146 by overlaying that portion of the jet route to provide positive course guidance for RNAV-equipped aircraft between the Gipper, MI, area and the Keating, PA, area. The airspace within Canada would be excluded from RNAV Route Q-186.

The Proposal

The FAA is proposing to amend 14 CFR part 71 by amending Jet Route J-146 and establishing United States RNAV Route Q-186. This action is required due to the planned decommissioning of the VOR portion of the Chardon, OH, VOR/DME NAVAID. The proposed ATS route actions are described below.

J-146: J-146 currently extends between the Los Angeles, CA, VORTAC and the Kennedy, NY, VOR/DME, excluding the portion within Canada. The FAA proposes to remove the route segment between the Gipper, MI, VORTAC and the Keating, PA, VORTAC. The exclusion language would also be removed. As amended, the airway would be changed to extend between the Los Angeles VORTAC and the Gipper VORTAC, and between the Keating VORTAC and the Kennedy VOR/DME.

Q-186: Q-186 is a new United States RNAV route proposed to be established extending between the ZIINE, MI, waypoint (WP) located approximately 0.5 nautical mile (NM) east of the Gipper, MI, VORTAC and the SCAAM, PA, WP being established approximately 8 NM east of the Keating, PA, VORTAC. The new route would provide an RNAV alternative to the proposed J-146 amendment above. The airspace within Canada would be excluded.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that would only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-146 [Amended]

From Los Angeles, CA; Daggett, CA; Las Vegas, NV; Dove Creek, CO; Blue Mesa, CO, Goodland, KS; Lincoln, NE; Iowa City, IA; Joliet, IL; to Gipper, MI. From Keating, PA; Milton, PA; Allentown, PA; to Kennedy, NY.

* * * * *

Paragraph 2006 United States Area Navigation Routes.

* * * * *

Q-186 ZIINE, MI to SCAAM, PA [New]
ZIINE, MI | WP | (Lat. 41°46′11.17″ N, long. 086°18′26.72″ W)
IDEAS, MI | FIX | (Lat. 41°46′17.18″ N, long. 083°33′06.56″ W)
SPYDY, OH | WP | (Lat. 41°32′45.18″ N, long. 081°24′44.10″ W)
TEESY, PA | FIX | (Lat. 41°25′15.99″ N, long. 080°06′42.56″ W)
MIGET, PA | FIX | (Lat. 41°17′40.43″ N, long. 078°51′51.49″ W)
SCAAM, PA | WP | (Lat. 41°11′37.46″ N, long. 077°58′15.20″ W)
Excluding the airspace within Canada.

* * * * *

Issued in Washington, DC, on February 12, 2025.
Brian Eric Konie,
Manager (A), Rules and Regulations Group.

[FR Doc. 2025-02774 Filed 2-18-25; 8:45 am]

BILLING CODE 4910-13-P